DEPARTMENT OF COMMERCE

National Oceanic and Atmospheric Administration

Agency Information Collection Activities; Submission to the Office of Management and Budget for Review and Approval; Comment Request; Documentation of Fish Harvest

The Department of Commerce will submit the following information collection request to the Office of Management and Budget (OMB) for review and clearance in accordance with the Paperwork Reduction Act (PRA), on or after the date of publication of this notice. We invite the public and other Federal agencies to comment on proposed and continuing information collections, which help us to assess the impact of our information collection requirements and minimize the public's reporting burden. The National Marine Fisheries Service (NMFS) previously requested public comments for 60 days via a notice published in the Federal Register on May 14, 2024. This notice allows for an additional 30 days for public comments.

Agency: National Oceanic and Atmospheric Administration, Commerce.

Title: Documentation of Fish Harvest.

OMB Control Number: 0648-0365.

Form Number(s): None.

Type of Request: Regular submission—extension of a current information collection.

Estimated Number of Respondents: 379.

Estimated Time per Response: 10 minutes.

Estimated Total Annual Burden Hours: 63 hours.

Needs and Uses: The NMFS Southeast Regional Office proposes to extend the information collection currently approved under OMB Control Number 0648-0365.

The NMFS Southeast Regional Office manages commercial fishing in Federal waters of the South Atlantic under the authority of the Magnuson-Stevens Fishery Conservation and Management Act, which is also known as the Magnuson-Stevens Act.

Federally permitted seafood dealers who process or sell snapper-grouper species during seasonal fishery closures in the South Atlantic for those applicable species must maintain documentation, as specified in 50 CFR part 300 subpart K and 50 CFR 622.192(i), that such fish were harvested from areas other than state or Federal waters in the South Atlantic. The applicable snapper-grouper species are greater amberjack, gag, black grouper, red grouper, scamp, red hind, rock hind, yellowmouth grouper, yellowfin grouper, graysby, and coney. The documentation includes information on the vessel that harvested the fish, and where and when the fish were offloaded from the vessel. NMFS requires the information for the enforcement of fishery regulations at 50 CFR 622, subpart I.

Affected Public: Business or other for-profit organizations.

Frequency: As needed.

Respondent's Obligation: Mandatory.

Legal Authority: 16 U.S.C. 1801 et seq.

This information collection request may be viewed at https://www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0365.

Sheleen Dumas,
Departmental PRA Clearance Officer, Office of the Under Secretary for Economic Affairs, Commerce Department.

[FR Doc. 2024-20943 Filed 9-13-24; 8:45 am]

BILLING CODE 3510-22-P